DEPARTMENT OF STATE

[Public Notice: 9357]

Removal of Sanctions on Person on Whom Sanctions Have Been Imposed Under the Iran Sanctions Act of 1996, as Amended

AGENCY: Department of State.

ACTION: Notice.

SUMMARY: The Secretary of State has decided to terminate sanctions imposed under the Iran Sanctions Act of 1996 (Pub. L. 104-172) (50 U.S.C. 1701 note) (“ISA”), as amended, on Dettin S.p.A. (a.k.a. Dettin) on the basis that the company is no longer engaging in sanctionable activity described in section 5(a) of ISA, and that this person has provided reliable assurances that it will not knowingly engage in sanctionable activities in the future. Therefore, certain sanctions that were imposed on Dettin on August 29, 2014 are no longer in effect.

DATES: Effective date: The sanctions on Dettin are lifted effective November 2, 2015.

FOR FURTHER INFORMATION CONTACT: On general issues: Office of Sanctions Policy and Implementation, Department of State, Telephone: (202) 647-7489.

SUPPLEMENTARY INFORMATION: On August 29, 2014, the Secretary of State made a determination to impose certain sanctions on, inter alia, Dettin S.p.A. (a.k.a. Dettin) under the Iran Sanctions Act of 1996, as amended (P.L. 104-172) (50 U.S.C. 1701 note). See 79 FR 59890 (October 3, 2014). Additional information regarding the basis for imposing sanctions and the specific sanctions imposed on Dettin is contained in the Federal Register notice cited above.

Pursuant to section 9(b)(2) of ISA and the authority delegated to the Secretary of State in the October 9, 2012 Memorandum to relevant agency heads, “Delegation of Certain Functions and Authorities Under the Iran Threat Reduction and Syria Human Rights Act of 2012,” (“Delegation Memorandum”), the Secretary now has decided to terminate sanctions on Dettin on the basis that the company is no longer engaging in sanctionable activity described in section 5(a) of ISA, and that this person has provided reliable assurances that they will not knowingly engage in sanctionable activities in the future. The sanctions on Dettin, therefore, are no longer in effect.

Pursuant to the authority delegated to the Secretary of State in the Delegation Memorandum, relevant agencies and instrumentalities of the United States Government shall take all appropriate measures within their authority to carry out the provisions of this notice.

The following constitutes a current, as of this date, list of persons on whom sanctions are imposed under ISA. The particular sanctions imposed on an individual person are identified in the relevant Federal Register Notice.

—Bimeh Markazi-Central Insurance of Iran (See Public Notice 8268, 78 FR 21183, April 9, 2013)

—Cambis, Dimitris (See Public Notice 8268, 78 FR 21183, April 9, 2013)

—FAL Oil Company Limited (see Public Notice 7776, 77 FR 4389, January 27, 2012)

—Ferland Company Limited (See Public Notice 8352, 78 FR 35351, June 12, 2013)

—Goldentex FZE (see Public Notice 8897, 79 FR 59890, October 3, 2014)

—Impire Shipping (See Public Notice 8268, 78 FR 21183, April 9, 2013)

—Jam Petrochemical Company (See Public Notice 8352 78 FR 35351, June 12, 2013)

—Kish Protection and Indemnity (a.k.a. Kish P&I) (See Public Notice 8268, 78 FR 21183, April 9, 2013)

—Kuo Oil (S) Pte. Ltd. (see Public Notice 7776, 77 FR 4389, January 27, 2012)

—Naftiran Intertrade Company (see Public Notice 7197, 75 FR 62916, October 13, 2010)

—Niksima Food and Beverage JLT (See Public Notice 8352, 78 FR 35351, June 12, 2013)

—Petrochemical Commercial Company International (a.k.a. PCCI) (see Public Notice 7585, 76 FR 56866, September 14, 2011)

—Petróleos de Venezuela S.A. (a.k.a. PDVSA) (see Public Notice 7585, 76 FR 56866, September 14, 2011)

—Royal Oyster Group (see Public Notice 7585, 76 FR 56866, September 14, 2011)

—Speedy Ship (a.k.a. SPD) (see Public Notice 7585, 76 FR 56866, September 14, 2011)

—Sytrol (see Public Notice 8040, 77 FR 59034, September 25, 2012)

—Zhuhai Zhenrong Company (see Public Notice 7776, 77 FR 4389, January 27, 2012)

Dated: November 5, 2015.
Kurt W. Tong,
Acting Assistant, Secretary for Economic, and Business Affairs.

[FR Doc. 2015-30062 Filed 11-24-15; 8:45 am]

BILLING CODE 4710-07-P